DEPARTMENT OF COMMERCE

National Oceanic and Atmospheric Administration

Agency Information Collection Activities; Submission to the Office of Management and Budget (OMB) for Review and Approval; Comment Request; Cooperative Game Fish Tagging Report

AGENCY: National Oceanic & Atmospheric Administration (NOAA), Commerce.

ACTION: Notice of Information Collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before March 12, 2021.

ADDRESSES: Interested persons are invited to submit written comments to Adrienne Thomas, NOAA PRA Officer, at Adrienne.thomas@noaa.gov. Please reference OMB Control Number 0648-0247 in the subject line of your comments. Do not submit Confidential Business Information or otherwise sensitive or protected information.

FOR FURTHER INFORMATION CONTACT: Requests for additional information or specific questions related to collection activities should be directed to Eric Orbesen, Research Fish Biologist, NOAA Southeast Fisheries Science Center, 75 Virginia Beach Dr., Miami, FL 33149, ((305) 261-4253), Eric.Orbesen@noaa.gov.

SUPPLEMENTARY INFORMATION:

I. Abstract

This request is for extension of a current information collection.

The Cooperative Game Fish Tagging Program was initiated in 1971 as part of a comprehensive research program resulting from passage of Public Law 86-359, Study of Migratory Game Fish, and other legislative acts under which the National Marine Fisheries Service (NMFS) operates. The Cooperative Tagging Center attempts to determine the migration patterns of, and other biological information for, billfish, tunas, and swordfish. The Fish Tag Issue Report card is a necessary part of the tagging program. Fishermen volunteer to tag and release their catch. When requested, NMFS provides the volunteers with fish tags for their use when they release their fish. Usually a group of five tags is sent at one time, each attached to a Report card, which is pre-printed with the first and last tag numbers received, and has spaces for the respondent's name, address, date, and club affiliation (if applicable). He/she fills out the card with information when a fish is tagged and mails it to NMFS.

Information on each species is used by NMFS to determine migratory patterns, distance traveled, stock boundaries, age, and growth. These data are necessary input for developing management criteria by regional fishery management councils, states, and NMFS. The tag report cards are necessary to provide tags to the volunteer angler, record when and where the fish was tagged, the species, its estimated length and weight, tag number, and information on the tagger for follow-ups if the tagged fish is recovered. Failure to obtain these data would make management decisions very difficult and would be contrary to the NMFS Marine Recreational Fishing policy objectives. Anglers are made aware of the tagging program through several forms of media: newspaper and magazine articles, through both The Billfish Foundation and the Southeast Fisheries Science Center websites, peer review papers, and by word of mouth.

II. Method of Collection

Information is submitted by mail, and occasionally, international anglers scan the report cards and submit them via email to tagging@noaa.gov.

III. Data

OMB Control Number: 0648-0247.

Form Number(s): NOAA form 88-162.

Type of Review: Regular submission, extension of a current information collection.

Affected Public: Individuals or households.

Estimated Number of Respondents: 12,000.

Estimated Time per Response: 2 minutes.

Estimated Total Annual Burden Hours: 400 hours.

Estimated Total Annual Cost to Public: $0.

Respondent's Obligation: Voluntary.

Legal Authority: U.S. Code: 16 U.S.C. 760e Name of Law: Study of Migratory Game Fish.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-00286 Filed 1-8-21; 8:45 am]

BILLING CODE 3510-22-P